DEPARTMENT OF COMMERCE

Bureau of the Census

Reestablishment of the Census Advisory Committee of Professional Associations

AGENCY: Bureau of the Census, Department of Commerce.

ACTION: Notice of advisory committee reestablishment.

SUMMARY: Notice is hereby given that the Secretary of Commerce has determined that the reestablishment of an advisory committee of technical advisors is necessary and in the public interest. Accordingly, the Bureau of the Census (Census Bureau) has chartered the Census Scientific Advisory Committee (CSAC), which succeeds the Census Advisory Committee of Professional Associations (CACPA). The charter for the CACPA expired on February 1, 2010.

FOR FURTHER INFORMATION CONTACT: Contact Jeri Green, Chief, Census Advisory Committee Office, U.S. Census Bureau, Washington, DC 20233, telephone 301-763-2075, Jeri.Green@Census.gov.

SUPPLEMENTARY INFORMATION: The CSAC will advise the Census Bureau's Director on the full range of Census Bureau programs and activities. The CSAC will provide scientific and technical expertise from the following disciplines: Demography, economics, geography, psychology, statistics, survey methodology, social and behavioral sciences, Information Technology and computing, marketing and other fields of expertise, as appropriate, to address Census Bureau program needs and objectives.

The CSAC will function solely as an advisory body and in compliance with provisions of the Federal Advisory Committee Act. Copies of the charter will be filed with the appropriate Committees of the Congress and with the Library of Congress.

Dated: March 25, 2010.
Thomas L. Mesenbourg,
Deputy Director, Bureau of the Census.

[FR Doc. 2010-7250 Filed 3-30-10; 8:45 am]

BILLING CODE 3510-07-P